ENVIRONMENTAL PROTECTION AGENCY

[FRL-10007-43-OMS]

National and Governmental Advisory Committees to the U.S. Representative to the Commission for Environmental Cooperation

AGENCY: Environmental Protection Agency (EPA).

ACTION: Notice of Federal Advisory Committee meeting teleconference.

SUMMARY: Under the Federal Advisory Committee Act, The Environmental Protection Agency (EPA) gives notice of a public meeting of the National Advisory Committee (NAC) and the Government Advisory Committee (GAC). The NAC and GAC provide advice the EPA Administrator a broad range of environmental policy, technology, and management issues. NAC/GAC members represent academia, business/industry, non-governmental organizations, and state, local and tribal governments. The purpose of this meeting is to provide advice to the EPA Administrator, regarding the draft 2021-2025 Strategic Plan of the Commission for Environmental Cooperation (CEC). A copy of the meeting agenda will be posted at http://www.epa.gov/faca/nac-gac. Due to unforeseen administrative circumstances, EPA is announcing this meeting with less than 15 calendar days notice.

DATES: NAC/GAC will hold a public teleconference on April 10, 2020, from 11 a.m. to 3 p.m. (EST).

ADDRESSES: This meeting will be broadcasted via teleconference only. To gain access to the meeting please contact Oscar Carrillo, Designated Federal Officer for the NAC/GAC at 202-564-0347 or carrillo.oscar@epa.gov.

FOR FURTHER INFORMATION CONTACT: Oscar Carrillo, Program Analyst, carrillo.oscar@epa.gov, (202) 564-0347, U.S. EPA, Office of Resources, Operations and Management; Federal Advisory Committee Management Division (MC1601M), 1200 Pennsylvania Avenue NW, Washington, DC 20460.

SUPPLEMENTARY INFORMATION: Requests to make oral comments or to provide written comments to NAC/GAC should be sent to Oscar Carrillo at carrillo.oscar@epa.gov by April 6th, 2020. The teleconference is open to the public, with limited lines available on a first-come, first-served basis. Members of the public wishing to participate in the teleconference should contact Oscar Carrillo via email or by calling (202) 564-0347 no later than April 6, 2020.

Meeting Access: Information regarding accessibility and/or accommodations for individuals with disabilities should be directed to Oscar Carrillo at the email address or phone number listed above. To ensure adequate time for processing, please make requests for accommodations at least 10 days prior to the teleconference meeting.

Dated: April 1, 2020.
Oscar Carrillo,
Program Analyst.

[FR Doc. 2020-07219 Filed 4-6-20; 8:45 am]

BILLING CODE 6560-50-P